DEPARTMENT OF HOUSING AND URBAN DEVELOPMENT

[Docket No. FR-5604 -N-13]

Notice of Proposed Information Collection: Comment Request; Border Community Capital Initiative

AGENCY: Office of Community Planning and Development, HUD.

ACTION: Notice.

SUMMARY: The proposed information collection requirement described below will be submitted to the Office of Management and Budget (OMB) for review, as required by the Paperwork Reduction Act. The Department is soliciting public comments on the subject proposal.

The purpose of this submission is for the application for the Border community Capital Initiative grant process. Information is required to rate and rank competitive applications and to ensure eligibility of applicants for funding. Semi-annual reporting is required to monitor grant management.

DATES: Comments Due Date: February 5, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Program Contact: Jackie L. Williams, Ph.D., Director, Office of Rural Housing and Economic Development, Department of Housing and Urban Development, 451 7th Street SW., Washington, DC 20410, telephone (202) 708-2290 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Border Community Capital Initiative.

OMB Control Number, if applicable: Pending.

Description of the need for the information and proposed use: The purpose of this submission is for the application for the Boarder community Capital Initiative grant process. Information is required to rate and rank competitive applications and to ensure eligibility of applicants for funding. Semi-annual reporting is required to monitor grant management.

Agency form numbers, if applicable: SF 424; SF424 Supplement; HUD 424CB; HUD 424-CBW; SF-LLL; HUD 2880; HUD 2990; HUD 2991; HUD 2993; HUD 2994A; HUD 96010; HUD 27061; HUD 27300; and HUD 96011 SF 269a.

Estimation of the total numbers of hours needed to prepare the information collection including number of respondents, frequency of response, and hours of response: The number of burden hours is 2,801. The number of respondents is 50, the number of responses is 50, the frequency of response is on occasion, and the burden hour per response is 100.

Status of the proposed information collection: This is a new collection.

Authority: The Paperwork Reduction Act of 1995, 44 U.S.C., Chapter 35, as amended.

Dated: December 3, 2012.
Clifford Taffet,
Deputy Assistant Secretary for Community Planning and Development.

[FR Doc. 2012-29609 Filed 12-6-12; 8:45 am]

BILLING CODE 4210-67-P